FEDERAL COMMUNICATIONS COMMISSION

[DA 21-684; FR ID 33087]

Media Bureau Reminds Remaining Analog Low Power Television and Television Translator Stations Without Digital Construction Permits To File Immediately

AGENCY: Federal Communications Commission.

ACTION: Notice.

SUMMARY: In this document, the Media Bureau (Bureau) of the Federal Communications Commission (Commission) reminds those remaining analog Low Power Television and TV Translator stations (LPTV/translator stations) that have not filed for a digital construction permit to construct a digital facility to do so immediately. Those analog LPTV/translator stations that fail to take immediate action will risk having their license automatically cancelled, by operation of law, after the analog termination date.

DATES: July 13, 2021 is the analog termination date and digital transition deadline.

FOR FURTHER INFORMATION CONTACT: Mark Colombo (technical questions), Mark.Colombo@fcc.gov, (202) 418-7611, or Shaun Maher (legal questions), Shaun.Maher@fcc.gov, (202) 418-2324, of the Video Division, Media Bureau.

SUPPLEMENTARY INFORMATION: This is a summary of the Commission's document (Public Notice), DA 21-684, released on June 11, 2021. The full text of this document is available for downloading on the FCC website at https://docs.fcc.gov/public/attachments/DA-21-684A1.pdf. Remaining Analog LPTV/Translator Stations Without Digital Construction Permits. The Bureau has posted a list of the remaining analog LPTV/translator stations that have not obtained a digital construction permit to transition to digital operations on its web page: https://www.fcc.gov/sites/default/files/analog_stations_without_a_digital_permit.xlsx. The Bureau remind these stations that, after 11:59 p.m. local time on July 13, 2021, they may no longer operate any facility in analog mode and all analog licenses shall automatically cancel at that time without any affirmative action by the Commission. Analog LPTV/translator stations without a valid digital construction permit as of 11:59 p.m. local time on July 13, 2021, will find that their analog license has been automatically cancelled and will have their call signs deleted.

To avoid automatic cancellation of their station license, remaining analog LPTV/translator stations that do not have a digital construction permit should immediately file an application for one to ensure that they will be considered before the July 13, 2021, analog termination deadline. The Bureau recommends filing an application for on-channel digital conversion (“flash-cut”) wherever possible in order to expedite processing. Instructions for filing an application for digital construction permit are included in the Appendix to the Public Notice.

Late-Filed Construction Permit Extension Applications. All analog LPTV/translator stations receiving a digital construction permit, regardless of the date it is granted, are assigned a construction permit expiration date of July 13, 2021. Any analog LPTV/translator station that finds that it will need additional time to complete its digital construction may submit an application for extension of its digital construction permit. Because the March 15, 2021 deadline for filing an extension of digital construction permit (CP extension filing deadline) has already passed, stations will need to include a request for waiver of the CP extension filing deadline along with its request for extension. The Bureau encourage such stations to submit their extension applications and filing deadline waivers as soon as possible to ensure that they will be considered before the July 13, 2021 expiration of their digital construction permit. The grant of an extension of time to complete construction of a station's digital facility will in no way extend the July 13, 2021, analog service termination date. Instructions for filing an extension application are included in the Appendix to the Public Notice.

Requests for Silent Authority. The Bureau reminds licensees that a station may suspend operations for a period of not more than 30 days absent specific authority from the Commission. Stations that remain silent for more than 10 days must notify the Commission not later than the tenth day of their suspended operations by filing a Suspension of Operations Notification via LMS as outlined in Appendix B to the Public Notice. Stations that need to remain silent for more than 30 days must file a Silent STA via LMS as outlined in the Appendix to the Public Notice.

The Bureau also reminds stations that the license of any station that remains silent for any consecutive 12-month period expires automatically at the end of that period, by operation of law, except that the Commission may extend or reinstate such station license if the holder of the license prevails in an administrative or judicial appeal, the applicable law changes, or for any other reason to promote equity and fairness. Stations that need to extend and/or reinstate their license should do so as part of a Silent STA or if the station is operational by filing a Legal STA. Either may be filed via LMS as outlined in the Appendix to the Public Notice.

Surrender/Cancellation of Analog Licenses. Stations that choose not to convert to digital and instead intend to permanently discontinue operations must do so no later than 11:59 p.m. local time on July 13, 2021. If a station is currently silent and does not intend to recommence analog operation prior to July 13, 2021, or plans to permanently discontinue operation prior to July 13, 2021, the Bureau encourages such stations to submit their station licenses for cancellation. Instructions for requesting cancellation of a station license are included in the Appendix to the Public Notice. For all other analog LPTV/translator stations that choose not to convert to digital but continue to operate in analog until 11:59 p.m. local time on July 13, 2021, their licenses will automatically cancel, by operation of law, and call signs will be deleted.

Federal Communications Commission.
Thomas Horan
Chief of Staff, Media Bureau.

[FR Doc. 2021-12964 Filed 6-16-21; 8:45 am]

BILLING CODE 6712-01-P